NATIONAL ARCHIVES AND RECORDS ADMINISTRATION

[NARA-2022-012]

Privacy Act of 1974; System of Records

AGENCY: National Archives and Records Administration (NARA).

ACTION: Notice revising a system of records.

SUMMARY: We propose to revise a system of records in our existing inventory of systems subject to the Privacy Act of 1974. The system is NARA 44, Reasonable Accommodation Request Records. We are revising it to make it more clear that the system includes records of requests for religious accommodations under Title VII of the Civil Rights Act of 1964. Our existing SORN permits religious accommodation requests; however, we want to modify our SORN to expressly authorize such requests for people who may submit religious accommodation requests related to COVID vaccination requirements. We are also updating the SORN to reorganize the SORN into the current required format. In this notice, we publish the system of records notice in full for public notice and comment.

DATES: This revised system of records, NARA 44, is effective on January 28, 2022.

ADDRESSES: National Archives and Records Administration, Regulations Desk, Strategy and Policy Division, Suite 4100, 8601 Adelphi Road, College Park, MD 20740.

FOR FURTHER INFORMATION CONTACT: Kimberly Keravuori, Regulatory and External Policy Program Manager, by email at regulation_comments@nara.gov or by phone at 301.837.3151.

SUPPLEMENTARY INFORMATION: Our Reasonable Accommodation Request Records system of records (NARA 44) includes records of requests, processing, and decisions for reasonable accommodations submitted by current and former NARA employees and applicants. It specifically mentions accommodations for disabilities. Due to recent COVID-related executive orders, a Federal employee may now request an exception to a COVID vaccination based on religious requirements, so we feel it is appropriate to clarify that this system also includes reasonable accommodations for religious reasons. As a result, we are adding language to also specifically state that the system includes religious accommodation requests. We are adding a reference to such requestors in the “categories of individuals covered” section, adding a reference to religious accommodation requests in the “categories of records in the system” section and listing information on religious beliefs and practices in the types of information a requestor might submit, removing the phrase “under the Rehabilitation Act” from the end of the “record source categories” section so that it doesn't appear to limit the system to only requests for disability accommodations, and adding Title VII of the Civil Rights Act of 1964 to the authorities list.

The Privacy Act of 1974, as amended (5 U.S.C. 552a) (“Privacy Act”), provides certain safeguards for an individual against an invasion of personal privacy. It requires Federal agencies that disseminate any record of personally identifiable information to do so in a manner that assures the action is for a necessary and lawful purpose, the information is current and accurate for its intended use, and the agency provides adequate safeguards to prevent misuse of such information. NARA intends to follow these principles when transferring information to another agency or individual as a “routine use,” including assuring that the information is relevant for the purposes for which it is transferred.

David S. Ferriero,
Archivist of the United States.

NARA 44

SYSTEM NAME AND NUMBER:

Reasonable Accommodation Request Records, NARA 44

SECURITY CLASSIFICATION:

Unclassified

SYSTEM LOCATION:

The Office of Equal Employment Opportunity at the National Archives in College Park maintains reasonable accommodation request files. The system address is the same as the system manager address.

SYSTEM MANAGER:

For these case files, the system manager is the Director, Office of Equal Employment Opportunity. The business addresses for system managers are listed in Appendix B, last republished September 27, 2018 (83 FR 48869). As system manager contact information is subject to change, for the most up-to-date information, visit our website at www.archives.gov/privacy/inventory.

AUTHORITY FOR MAINTAINING THE SYSTEM:

5 U.S.C. 552a(a)(3), as amended.

44 U.S.C. 2104(a), as amended.

The Americans with Disabilities Act of 1990, as amended.

Title VII of the Civil Rights Act of 1964, as amended.

29 U.S.C. 791.

Executive Order 13164.

29 CFR part 1614.

PURPOSE OF THE SYSTEM:

We use the information in this system to process and implement employee reasonable accommodation requests and any resulting accommodation.

CATEGORIES OF INDIVIDUALS COVERED BY THE SYSTEM:

Individuals covered by this system include current and former NARA employees and applicants who have requested accommodation pursuant to NARA policy for processing reasonable accommodation requests. This includes accommodations for employees and applicants with disabilities and for religious reasons.

CATEGORIES OF RECORDS IN THE SYSTEM:

Reasonable accommodation request records may contain some or all of the following records: Requests for reasonable accommodation including medical records or religious information, notes or records made during consideration of requests, and decisions on requests. These records may contain: The employee or applicant's name, email address, mailing address, phone number, medical information, information on their religious beliefs and practices, and any additional information provided by the employee related to the processing of the request. If an accommodation request is made by a family member, health professional, or representative of a NARA employee or applicant, the records may also contain that requestor's name, email address, mailing address, phone number, and any additional information provided by the requestor relating to the processing of the request.

RECORD SOURCE CATEGORIES:

NARA obtains information in these files from employees, applicants, and any family members, health professionals, or representatives of a NARA employee or applicant, who request reasonable accommodation.

ROUTINE USES OF RECORDS MAINTAINED IN THE SYSTEM, INCLUDING CATEGORIES OF USERS AND THE PURPOSES OF SUCH USES:

We maintain reasonable accommodation request files to (or for):

(a) Process and implement employee requests for reasonable accommodations, including manager review, reasonable accommodation staff review, medical or health staff review, and sharing with other people necessary to process or implement the request and any resulting accommodation;

(b) disclosures generally permitted under 5 U.S.C. 552a(b) of the Privacy Act; and

(c) routine uses A, B, C, D, E, F, G, and H listed in Appendix A apply to this system. Appendix A was last republished on December 20, 2013 (78 FR 77255, 77287). For the most up-to-date information, see the Appendix on our website at www.archives.gov/privacy/inventory.

POLICIES AND PRACTICES FOR STORING RECORDS:

Paper and electronic records.

POLICIES AND PRACTICES FOR RETRIEVING RECORDS:

Staff may retrieve information in these case files by the name of the employee or applicant, or by request number.

POLICIES AND PRACTICES FOR RETAINING AND DISPOSING OF RECORDS:

Reasonable accommodation request records are temporary records and we destroy them in accordance with disposition instructions in the NARA Records Schedule (a supplement to the NARA Files Maintenance and Records Disposition Manual). Individuals may request a copy of the disposition instructions from the NARA Privacy Act Officer (at the address listed in Appendix B).

ADMINISTRATIVE, TECHNICAL, AND PHYSICAL SAFEGUARDS:

During normal hours of operation, we maintain paper records in areas accessible only by authorized NARA personnel. Authorized NARA personnel access electronic records via password-protected workstations located in attended offices or through a secure remote-access network. After business hours, buildings have security guards and secured doors, and electronic surveillance equipment monitors all entrances.

RECORDS ACCESS PROCEDURES:

People who wish to access their records should submit a request in writing to the NARA Privacy Act Officer at the address listed in Appendix B.

CONTESTING RECORDS PROCEDURES:

NARA's rules for contesting the contents of a person's records and appealing initial determinations are in 36 CFR part 1202.

NOTIFICATION PROCEDURES:

People inquiring about their records should notify the NARA Privacy Act Officer at the address listed in Appendix B.

[FR Doc. 2022-01706 Filed 1-27-22; 8:45 am]

BILLING CODE 7515-01-P